DEPARTMENT OF THE INTERIOR

National Park Service

[NPS-WASO-NAGPRA-NPS0031612; PPWOCRADN0-PCU00RP14.R50000]

Notice of Inventory Completion: Museum of Riverside (Formerly Known as the Riverside Metropolitan Museum), Riverside, CA

AGENCY: National Park Service, Interior.

ACTION: Notice.

SUMMARY: The Museum of Riverside has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Museum of Riverside. If no additional requestors come forward, transfer of control of the human remains to the lineal descendants, Indian Tribes or Native Hawaiian organizations stated in this notice may proceed.

DATES: Lineal descendants or representatives of any Indian Tribe or Native Hawaiian organization not identified in this notice that wish to request transfer of control of these human remains should submit a written request with information in support of the request to the Museum of Riverside at the address in this notice by May 3, 2021.

ADDRESSES: Robyn G. Peterson, Ph.D., Museum Director, Museum of Riverside, 3580 Mission Inn Avenue, Riverside, CA 92501, telephone (951) 826-5792, email rpeterson@riversideca.gov.

SUPPLEMENTARY INFORMATION: Notice is here given in accordance with the Native American Graves Protection and Repatriation Act (NAGPRA), 25 U.S.C. 3003, of the completion of an inventory of human remains under the control of the Museum of Riverside, Riverside, CA. The human remains were removed from an unknown location in Southern California.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Museum of Riverside professional staff with assistance from Karimah Richardson, Autry Museum of the American West and Rebekah Loveless, Loveless Linton, Inc., in consultation with representatives of the Kumeyaay Cultural Repatriation Committee on behalf of the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California [previously listed as Santa Ysabel Band of Diegueno Mission Indians of the Santa Ysabel Reservation]; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

The Agua Caliente Band of Cahuilla Indians of the Agua Caliente Indian Reservation, California; Augustine Band of Cahuilla Indians, California [previously listed as Augustine Band of Cahuilla Mission Indians of the Augustine Reservation]; Cabazon Band of Mission Indians, California; Cahuilla Band of Indians [previously listed as Cahuilla Band of Mission Indians of the Cahuilla Reservation, California]; La Jolla Band of Luiseno Indians, California [previously listed as La Jolla Band of Luiseno Mission Indians of the La Jolla Reservation]; Los Coyotes Band of Cahuilla and Cupeno Indians, California [previously listed as Los Coyotes Band of Cahuilla & Cupeno Indians of the Los Coyotes Reservation]; Morongo Band of Mission Indians, California [previously listed as Morongo Band of Cahuilla Mission Indians of the Morongo Reservation]; Pala Band of Mission Indians [previously listed as Pala Band of Luiseno Mission Indians of the Pala Reservation, California]; Pechanga Band of Luiseno Mission Indians of the Pechanga Reservation, California; Ramona Band of Cahuilla, California [previously listed as Ramona Band or Village of Cahuilla Mission Indians of California]; Rincon Band of Luiseno Mission Indians of Rincon Reservation, California; San Manuel Band of Mission Indians, California [previously listed as San Manual Band of Serrano Mission Indians of the San Manual Reservation]; Santa Rosa Band of Cahuilla Indians, California [previously listed as Santa Rosa Band of Cahuilla Mission Indians of the Santa Rosa Reservation]; and the Torres Martinez Desert Cahuilla Indians, California [previously listed as Torres-Martinez Band of Cahuilla Mission Indians of California] were invited to consult but did not participate. Hereafter, all Indian Tribes listed in this section are referred to as “The Tribes.”

History and Description of the Remains

Prior to 1925, human remains representing, at minimum, two individuals (Accession RMM A3-74 and RMM A9-26) were removed from unknown locations likely in Southern California. The collector (1844-1911) was a founding donor of the Museum of Riverside. In 1900, the collector moved to Southern California, and in 1901, he began collecting Indian baskets, artifacts, and human remains. In 1925, the human remains were donated by the collector's family to the Museum. The human remains include one skull and mandible (A3-74) and one piece of bone embedded in asphaltum with 86 beige colored shell beads (A9-26). Structural analysis of the skull and mandible concluded that the human remains were likely female and of Native American ancestry. No known individual was identified. No associated funerary objects are present.

Available information suggests these human remains were removed from Southern California based on collection practices and donor records. With no additional information available, this geographic information likely traces a relationship of shared group identity between the human remains and The Tribes.

Determinations Made by the Museum of Riverside

Officials of the Museum of Riverside have determined that:

• Pursuant to 25 U.S.C. 3001(9), the human remains described in this notice represent the physical remains of two individuals of Native American ancestry.

• Pursuant to 25 U.S.C. 3001(2), there is a relationship of shared group identity that can be reasonably traced between the Native American human remains and The Tribes.

Additional Requestors and Disposition

Representatives of any Indian Tribe or Native Hawaiian organization not identified in this notice that wish to request transfer of control of these human remains should submit a written request with information in support of the request to Robyn G. Peterson, Ph.D., Museum Director, Museum of Riverside, 3580 Mission Inn Avenue, Riverside, CA 92501, telephone (951) 826-5792, email rpeterson@riversideca.gov, by May 3, 2021. After that date, if no additional requestors have come forward, transfer of control of the human remains to The Tribes may proceed.

The Museum of Riverside is responsible for notifying The Tribes that this notice has been published.

Dated: March 16, 2021.
Melanie O'Brien,
Manager, National NAGPRA Program.

[FR Doc. 2021-06658 Filed 3-31-21; 8:45 am]

BILLING CODE 4312-52-P